NATIONAL CREDIT UNION ADMINISTRATION

Sunshine Act: Notice of Agency Meeting

TIME AND DATE: 10:00 a.m., Thursday, June 25, 2020.

PLACE: Due to the COVID-19 Pandemic, the meeting will be open to the public via live webcast only. Visit the agency's homepage (www.ncua.gov) and access the provided webcast link.

STATUS: This meeting will be open to the public.

MATTERS TO BE CONSIDERED:

1. Board Briefing, Minority Depository Institution Annual Report.

2. Board Briefing, NCUA Guaranteed Notes Oversight Program.

3. Request for Information, Strategies for Future Examination and Supervision Utilizing Digital Technology.

4. NCUA Rules and Regulations, Technical Amendments.

5. NCUA Rules and Regulations, Risk-Based Net Worth.

CONTACT PERSON FOR MORE INFORMATION: Gerard Poliquin, Secretary of the Board, Telephone: 703-518-6304.

Gerard Poliquin,
Secretary of the Board.

[FR Doc. 2020-13534 Filed 6-18-20; 4:15 pm]

BILLING CODE 7535-01-P